INTERNATIONAL TRADE COMMISSION

[USITC SE-02-007]

Sunshine Act; Meeting

Agency Holding the Meeting: United States International Trade Commission.

Time and Date: April 1, 2002 at 2 p.m.

Place: Room 101, 500 E Street SW., Washington, DC 20436, Telephone: (202) 205-2000.

Status: Open to the public.

Matters to be Considered: 1. Agenda for future meeting: none.

2. Minutes

3. Ratification List

4. Inv. No. 731-TA-925 (Final) (Greenhouse Tomatoes from Canada)—briefing and vote. (The Commission is currently scheduled to transmit its determination and Commissioners' opinions to the Secretary of Commerce on or before April 11, 2002.)

5. Outstanding action jackets: (1.) Document No. GC-02-029: Concerning Inv. No. 337-TA-443 (Certain Flooring Products).

In accordance with Commission policy, subject matter listed above, not disposed of at the scheduled meeting, may be carried over to the agenda of the following meeting.

Issued: March 19, 2002.
By order of the Commission.
Marilyn R. Abbott,
Secretary.

[FR Doc. 02-7124 Filed 3-20-02; 2:40 pm]

BILLING CODE 7020-02-P